DEPARTMENT OF THE TREASURY

Office of Foreign Assets Control

31 CFR Part 591

Publication of Venezuela Sanctions Regulations Web General Licenses 36, 36A, 37, 38, and 39

AGENCY: Office of Foreign Assets Control, Treasury.

ACTION: Publication of web general licenses.

SUMMARY: The Department of the Treasury's Office of Foreign Assets Control (OFAC) is publishing five general licenses (GLs) issued in the Venezuela Sanctions program: GLs 36, 36A, 37, 38, and 39, each of which was previously made available on OFAC's website.

DATES: GL 36 was issued on February 18, 2020. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On February 18, 2022, OFAC issued GL 36 to authorize certain transactions otherwise prohibited by the Venezuela Sanctions Regulations, 31 CFR part 591 (VSR). On March 12, 2020, OFAC issued GL 36A, which superseded GL 36. On June 18, 2020, OFAC issued GL 37 to authorize certain transactions otherwise prohibited by the VSR. On November 30, 2020, OFAC issued GL 38 to authorize certain transactions otherwise prohibited by the VSR. GLs 36A and 38 are now expired. GL 37 was revoked on July 2, 2020.

On June 17, 2021, OFAC issued GL 39 to authorize certain transactions otherwise prohibited by the VSR. GL 39 was superseded by GL 39A, which was issued on June 10, 2022 (87 FR 47932). Each GL was made available on OFAC's website (www.treas.gov/ofac) when it was issued. The text of GLs 36, 36A, 37, 38, and 39 is provided below.

OFFICE OF FOREIGN ASSETS CONTROL

Venezuela Sanctions Regulations

31 CFR Part 591

GENERAL LICENSE NO. 36

Authorizing Certain Activities Necessary to the Wind Down of Transactions Involving Rosneft Trading S.A.

(a) Except as provided in paragraph (b) of this general license, all transactions and activities prohibited by Executive Order (E.O.) 13850 of November 1, 2018, as amended by E.O. 13857 of January 25, 2019, and incorporated into the Venezuela Sanctions Regulations, 31 CFR part 591 (the VSR), that are ordinarily incident and necessary to the wind down of transactions involving Rosneft Trading S.A., or any entity in which Rosneft Trading S.A. owns, directly or indirectly, a 50 percent or greater interest, are authorized through 12:01 a.m. eastern daylight time, May 20, 2020.

(b) This general license does not authorize:

(1) Any debit to an account of Rosneft Trading S.A., or any entity in which Rosneft Trading S.A. owns, directly or indirectly, a 50 percent or greater interest, on the books of a U.S. financial institution; or

(2) Any transactions or activities otherwise prohibited by the VSR, or any other part of 31 CFR chapter V, or any transactions or activities with any blocked person other than the blocked persons identified in paragraph (a) of this general license.

Andrea Gacki,

Director, Office of Foreign Assets Control.

Dated: February 18, 2020.

OFFICE OF FOREIGN ASSETS CONTROL

Venezuela Sanctions Regulations

31 CFR Part 591

GENERAL LICENSE NO. 36A

Authorizing Certain Activities Necessary to the Wind Down of Transactions Involving Rosneft Trading S.A. or TNK Trading International S.A.

(a) Except as provided in paragraph (b) of this general license, all transactions and activities prohibited by Executive Order (E.O.) 13850 of November 1, 2018, as amended by E.O. 13857 of January 25, 2019, and incorporated into the Venezuela Sanctions Regulations, 31 CFR part 591 (the VSR), that are ordinarily incident and necessary to the wind down of transactions involving Rosneft Trading S.A. or TNK Trading International S.A., or any entity in which Rosneft Trading S.A. or TNK Trading International S.A. owns, directly or indirectly, a 50 percent or greater interest, are authorized through 12:01 a.m. eastern daylight time, May 20, 2020.

(b) This general license does not authorize:

(1) Any debit to an account of Rosneft Trading S.A. or TNK Trading International S.A., or any entity in which Rosneft Trading S.A. or TNK Trading International S.A. owns, directly or indirectly, a 50 percent or greater interest, on the books of a U.S. financial institution; or

(2) Any transactions or activities otherwise prohibited by the VSR, or any other part of 31 CFR chapter V, or any transactions or activities with any blocked person other than the blocked persons identified in paragraph (a) of this general license.

(c) Effective March 12, 2020, General License No. 36, dated February 18, 2020, is replaced and superseded in its entirety by this General License No. 36A.

Andrea Gacki,

Director, Office of Foreign Assets Control.

Dated: March 12, 2020.

OFFICE OF FOREIGN ASSETS CONTROL

Venezuela Sanctions Regulations

31 CFR Part 591

GENERAL LICENSE NO. 37

Authorizing the Wind Down of Transactions Involving Delos Voyager Shipping Ltd, Romina Maritime Co Inc, and Certain Vessels

(a) Except as provided in paragraph (c) of this general license, all transactions and activities prohibited by Executive Order (E.O.) 13850 of November 1, 2018, as amended by E.O. 13857 of January 25, 2019, and incorporated into the Venezuela Sanctions Regulations, 31 CFR part 591 (the VSR), that are ordinarily incident and necessary to the wind down of transactions involving persons or vessels listed in paragraph (b) are authorized through 12:01 a.m. eastern daylight time, July 21, 2020.

(b) The authorization in paragraph (a) of this general license applies to the following persons and vessels listed on the Office of Foreign Assets Control's List of Specially Designated Nationals and Blocked Persons, and any entity in which the following persons own, directly or indirectly, a 50 percent or greater interest:

• DELOS VOYAGER SHIPPING LTD (Marshall Islands)

• Vessel: Delos Voyager (IMO: 9273052)

• ROMINA MARITIME CO INC (Greece)

• Vessel: Euroforce (IMO: 9251585)

(c) This general license does not authorize:

(1) The entry into any new commercial contracts involving the persons or vessels listed in paragraph (b), except as authorized by paragraph (a);

(2) Any debit to an account of persons listed in paragraph (b) on the books of a U.S. financial institution; or

(3) Any transactions or activities otherwise prohibited by the VSR, or any other part of 31 CFR chapter V, or any transactions or activities with any blocked person or vessel other than the persons or vessels identified in paragraph (b) of this general license.

Andrea Gacki,

Director, Office of Foreign Assets Control.

Dated: June 18, 2020.

OFFICE OF FOREIGN ASSETS CONTROL

Venezuela Sanctions Regulations

31 CFR Part 591

GENERAL LICENSE NO. 38

Authorizing the Wind Down of Transactions Involving CEIEC

(a) Except as provided in paragraph (b) of this general license, all transactions and activities prohibited by Executive Order (E.O.) 13692 of March 8, 2015, as amended by E.O. 13857 of January 25, 2019, each as incorporated into the Venezuela Sanctions Regulations, 31 CFR part 591 (the VSR), that are ordinarily incident and necessary to the wind down of transactions and activities involving CEIEC, or any entity in which CEIEC owns, directly or indirectly, a 50 percent or greater interest, are authorized through 12:01 a.m. eastern standard time, Thursday, January 14, 2021.

(b) This general license does not authorize:

(1) Any debit to an account of CEIEC, or any entity in which CEIEC owns, directly or indirectly, a 50 percent or greater interest, on the books of a U.S. financial institution; or

(2) Any transactions or activities otherwise prohibited by the VSR, or any other part of 31 CFR chapter V, or any transactions or activities with any blocked person other than the blocked persons identified in paragraph (a) of this general license.

Andrea Gacki,

Director, Office of Foreign Assets Control.

Dated: November 30, 2020.

OFFICE OF FOREIGN ASSETS CONTROL

Venezuela Sanctions Regulations

31 CFR Part 591

GENERAL LICENSE NO. 39

Authorizing Certain Activities To Respond to the Coronavirus Disease 2019 (COVID-19) Pandemic

(a) Authorizing certain COVID-19-related transactions involving the Government of Venezuela. Except as provided in paragraph (c) of this general license, all transactions and activities involving the Government of Venezuela that are related to the prevention, diagnosis, or treatment of COVID-19 (including research or clinical studies relating to COVID-19), that are prohibited by Executive Order (E.O.) 13808 of August 27, 2017, as amended by E.O. 13857 of January 25, 2019, or E.O. 13884 of August 5, 2019, each as incorporated into the Venezuela Sanctions Regulations, 31 CFR part 591 (the VSR), are authorized through 12:01 a.m. eastern daylight time, June 17, 2022.

(b) Authorizing certain COVID-19-related transactions involving certain banks. Except as provided in paragraph (c) of this general license, all transactions and activities described in paragraph (a) of this general license involving Banco Central de Venezuela (BCV), Banco de Venezuela, S.A. Banco Universal (Banco de Venezuela), Banco Bicentenario del Pueblo, de la Clase Obrera, Mujer y Comunas, Banco Universal C.A. (Banco Bicentenario del Pueblo), or any entity in which BCV, Banco de Venezuela, or Banco Bicentenario del Pueblo owns, whether individually or in the aggregate, directly or indirectly, a 50 percent or greater interest, that are prohibited by E.O. 13850 of November 1, 2018, as amended by E.O. 13857, each as incorporated into the VSR, are authorized through 12:01 a.m. eastern daylight time, June 17, 2022.

(c) This general license does not authorize:

(1) The exportation or reexportation of any goods, technology, or services to military, intelligence, or law enforcement purchasers or importers;

(2) Any transactions or activities involving Petróleos de Venezuela, S.A. (PdVSA), Banco de Desarrollo Economico y Social de Venezuela (BANDES), or Banco Bandes Uruguay S.A. (Bandes Uruguay), or any entity in which PdVSA, BANDES, or Bandes Uruguay owns, whether individually or in the aggregate, directly or indirectly, a 50 percent or greater interest;

(3) The unblocking of any property blocked pursuant to any part of 31 CFR chapter V; or

(4) Any transactions or activities otherwise prohibited by the VSR, or prohibited by any other part of 31 CFR chapter V, statute, or other E.O., or involving any blocked persons other than Government of Venezuela persons blocked solely pursuant to E.O. 13884 or the blocked persons identified in paragraph (b) of this general license.

Note 1 to General License 39. Nothing in this general license relieves any person from compliance with the requirements of other Federal agencies, including the Department of Commerce's Bureau of Industry and Security or the Department of State's Directorate of Defense Trade Controls.

Bradley T. Smith,

Acting Director, Office of Foreign Assets Control.

Dated: June 17, 2021.

Andrea M. Gacki,
Director, Office of Foreign Assets Control.

[FR Doc. 2023-04317 Filed 3-1-23; 8:45 am]

BILLING CODE 4810-AL-P